DEPARTMENT OF TRANSPORTATION

Federal Aviation Administration

14 CFR Part 39

[Docket No. FAA-2005-20848; Directorate Identifier 2005-NE-02-AD; Amendment 39-14323; AD 2005-20-26]

RIN 2120-AA64

Airworthiness Directives; Aviointeriors S.p.A. (formerly ALVEN), Series 312 Box Mounted Seats; Correction

AGENCY: Federal Aviation Administration, DOT.

ACTION: Final rule; correction.

SUMMARY: This document makes a correction to Airworthiness Directive (AD) 2005-20-26. That AD applies to Aviointeriors S.p.A. (formerly ALVEN), series 312 box mounted seats. That AD published in the Federal Register on October 12, 2005 (70 FR 59243). This document corrects the AD number in the Amendatory section. In all other respects, the original document remains the same.

EFFECTIVE DATE: Effective December 19, 2005.

FOR FURTHER INFORMATION CONTACT: Jeffrey Lee, Aerospace Engineer, Boston Aircraft Certification Office, FAA, Engine and Propeller Directorate, 12 New England Executive Park, Burlington, MA 01803-5299; telephone: 781-238-7161; fax: 781-238-7170.

SUPPLEMENTARY INFORMATION: A final rule AD, FR Doc. 05-19941, that applies to Aviointeriors S.p.A. (formerly ALVEN), series 312 box mounted seats, was published in the Federal Register on October 12, 2005 (70 FR 59243). The following correction is needed:

§ 39.13 [Corrected]

On page 59243, in the third column, under § 39.13 [Amended], paragraph 2., fourth line, “2005-20-06” is corrected to read “2005-20-26”.

Issued in Burlington, MA, on December 13, 2005.
Peter A. White,
Acting Manager, Engine and Propeller Directorate, Aircraft Certification Service.

[FR Doc. 05-24194 Filed 12-16-05; 8:45 am]

BILLING CODE 4910-13-P